ENVIRONMENTAL PROTECTION AGENCY

[ER-FRL-9026-5]

Environmental Impact Statements; Notice of Availability

Responsible Agency: Office of Federal Activities, General Information (202) 564-7146 or http://www2.epa.gov/nepa.

Weekly receipt of Environmental Impact Statements (EISs)

Filed 04/04/2016 Through 04/08/2016

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20160076, Final, BLM, WY, Continental Divide Creston Natural Gas Development Project, Review Period Ends: 05/16/2016, Contact: Jennifer Fleuret 307-775-6329.

EIS No. 20160077, Draft, BLM, UT, Enefit Utility Corridor Project, Comment Period Ends: 06/07/2016, Contact: Stephanie Howard 435-781-4469.

EIS No. 20160078, Draft, USFWS, MN, Midwest Wind Energy Multi-Species Habitat Conservation Plan, Comment Period Ends: 07/14/2016, Contact: Rick Amidon 612-713-5164.

EIS No. 20160079, Final, BLM, OR, Western Oregon Resource Management Plan, Review Period Ends: 05/16/2016, Contact: Mark Brown 503-808-6233.

Dated: April 12, 2016.
Dawn Roberts,
Management Analyst, NEPA Compliance Division, Office of Federal Activities.

[FR Doc. 2016-08786 Filed 4-14-16; 8:45 am]

BILLING CODE 6560-50-P